FEDERAL COMMUNICATIONS COMMISSION

47 CFR Part 64

[CC Docket No. 98-67; FCC 03-46]

Provision of Improved Telecommunications Relay Services and Speech-to-Speech Services for Individuals With Hearing and Speech Disabilities

AGENCY: Federal Communications Commission.

ACTION: Waiver and clarification.

SUMMARY: This document extends the previously granted one-year waivers of the emergency call handling, voice carry over (VCO), and speech-to-speech (STS) telecommunications relay services mandatory minimum standards for five years for IP Relay providers. Additionally, this document waives the “900” number services (a type of pay-per-call service) and the hearing carry over (HCO) telecommunications relay service (TRS) mandatory minimum standards for a five-year period for IP Relay providers. All waivers are contingent on IP Relay providers filing an annual report with the Commission detailing the technological changes in these areas, the progress made, and the steps taken to resolve the technical problems that prohibit IP Relay providers from meeting the TRS mandatory minimum standards waived in this document. These waivers of TRS mandatory minimum standards apply to all other current and potential IP Relay providers.

DATES: Effective March 14, 2002.

FOR FURTHER INFORMATION CONTACT: Janet Sievert, of the Consumer & Governmental Affairs Bureau at (202) 418-1362 (voice), (202) 418-1398 (TTY), or e-mail jsievert@fcc.gov. For additional information concerning the information collection(s) contained in the Order on Reconsideration, contact Leslie Smith at (202) 418-0217, or via the Internet at Leslie.Smith@fcc.gov.

SUPPLEMENTARY INFORMATION: This is a summary of the Commission's Order on Reconsideration, adopted March 4, 2003, and released March 14, 2003. See 67 FR 39863, June 11, 2002. This Order on Reconsideration contains a new information collection(s) subject to the Paperwork Reduction Act of 1995 (PRA), Public Law 104-13. It will be submitted to the Office of Management and Budget (OMB) for review under Section 3507 of the PRA. OMB, the general public, and other Federal agencies are invited to comment on the new information collection(s) contained in this Order on Reconsideration. Copies of any subsequently filed documents in this matter will be available for public inspection and copying during regular business hours at the FCC Reference Information Center, Portals II, 445 12th Street, SW., Room CY-A257, Washington, DC 20554. The complete text of this decision also may be purchased from the Commission's duplicating contractor, Qualex International, Portals II, 445 12th Street, SW., Room CY-B402, Washington, DC 20554, telephone (202) 863-2893, facsimile (202) 863-2898, or via e-mail qualexint@aol.com. To request materials in accessible formats for people with disabilities (braille, large print, electronic files, audio format), send an e-mail to fcc504@fcc.gov or call the Consumer & Governmental Affairs Bureau at (202) 418-0531 (voice), (202) 418-7365 (TTY). This Order on Reconsideration can also be downloaded in Text and ASCII formats at: http://www.fcc.gov/cgb/dro.

Synopsis

In this Order on Reconsideration, the Commission resolves two petitions for reconsideration filed by WorldCom, Inc., and Sprint Corporation. WorldCom requests that the Commission extend the emergency call handling, VCO, and STS waivers from a one-year period to either a five-year period or an indefinite time. Because a one-year period may be too short of a time period for the necessary technological advancements to make it feasible for IP Relay providers to offer emergency call handling, VCO and STS, the Commission extended the one-year waiver of these requirements to a five-year period. Sprint requests that the Commission grant IP Relay providers waivers of the 900 number services and hearing carry over (HCO) TRS mandatory minimum standards. Additionally, because it is technically infeasible for IP Relay providers to offer 900 number services (47 CFR 64.604(a)(3)) and one-line HCO (47 CFR 64.604(a)(5)), the Commission waived these TRS mandatory minimum standards for a period of five years for IP Relay providers. All waivers were granted contingent on IP Relay providers filing an annual report with the Commission detailing the technological changes in these areas, the progress made, and the steps taken to resolve the technical problems that prohibit IP Relay providers from meeting the TRS mandatory minimum standards waived. For administrative convenience all wavers granted in this document expire on January 1, 2008.

Final Regulatory Flexibility Certification

The Regulatory Flexibility Act of 1980, as amended (RFA) requires that a regulatory flexibility analysis be prepared for rulemaking proceedings, unless the agency certifies that “the rule will not have a significant economic impact on a substantial number of small entities. The RFA, see 5 U.S.C. 601 et. seq., has been amended by the Contract with America Advancement Act of 1996, Public Law 104-121, 110 Stat. 847 (1996) (CWAAA). Title II of the CWAAA is the Small Business Regulatory Enforcement Act of 1996 (SBREFA). 5 U.S.C.605(b). The RFA generally defines “small entity” as having the same meaning as the terms “small business,” “small organization,” and “small governmental jurisdiction. 5 U.S.C. 601(b). In addition, the term “small business” has the same meaning as the term “small business concern” under the Small Business Act. 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definitions(s) in the Federal Register.” A small business concern is one which: (1) Is independently owned and operated; (2) is not dominant in its field of operation; and (3) satisfies any additional criteria established by the Small Business Administration. This item imposes a regulatory burden on IP Relay providers , requiring them to file an annual report with the Commission concerning the status of technology developed that will allow IP Relay providers to meet the telecommunications relay services mandatory minimum standards waived herein for IP Relay providers. Currently only three entities are providing IP Relay: AT&T, Sprint, and WorldCom. These are large entities. There is one entity, Hamilton Relay, Inc., that is preparing to offer IP Relay service which may be a small entity. The effect of this reporting requirement on any small business will not be significant. Based on the small number of entities providing IP Relay service, we conclude that this action will not cause a significant impact on small business. Based on the above, we conclude that our action will not affect a substantial number of small businesses. Therefore, we certify that the requirements of this Order on Reconsideration will not have a significant economic impact on a substantial number of small entities. The Commission will send a copy of the Order on Reconsideration including a copy of this final certification, in a report to Congress pursuant to the Congressional Review Act of 1996. See 5 U.S.C. 801(a)(1)(A). In addition, the Order on Reconsideration and this certification will be sent to the Chief Counsel for Advocacy of the Small Business Administration, and will be published in the Federal Register. See 5 U.S.C. 605(b).

Paperwork Reduction Act

This Order on Reconsideration contains a new information collection(s). The Commission, as part of its continuing effort to reduce paperwork burdens, invites the general pubic to comment on the information collection(s) contained in the Order on Reconsideration as required by the Paperwork Reduction Act (“PRA”) of 1995, Public Law 104-13. Public and agency comments are due June 16, 2003. The information collection(s) shall become effective following approval by the Office of Management and Budget. The Federal Communications Commission will publish a document in the Federal Register announcing the effective date.

Ordering Clauses

Accordingly, It is ordered that, pursuant to the authority contained in Sections 1.2 and 225 of the Communications Act of 1934, as amended, 47 U.S.C.151, 152 and 225, this Order on Reconsideration is adopted.

It is further ordered that WorldCom's Petition for Reconsideration IS GRANTED to the extent indicated herein.

It is further ordered that Sprint's Petition for Limited Reconsideration IS GRANTED to the extent indicated herein (granting waivers of 47 CFR 64.604(a)(3) and 47 CFR 64.604(a)(5)).

It is further ordered that IP Relay providers subject to the waivers granted shall submit annually a report, as indicated herein, to the Commission twelve months after publication of this Order on Reconsideration in the Federal Register.

It is further ordered that the late filed comments of Telecommunications for the Deaf, Inc., and Self Help for Hard of Hearing People are considered as part of the record in this proceeding.

It is further ordered that the Commission's Consumer & Governmental Affairs Bureau, Reference Information Center, Shall send a copy of the Order on Reconsideration, including the Final Regulatory Flexibility Certification, to the Chief Counsel for Advocacy of the Small Business Administration.

It is further ordered that the information collection(s) contained in the Order on Reconsideration Shall become effective following approval by the Office of Management and Budget in the Federal Register announcing the effective date for those sections.

Federal Communications Commission.
William F. Caton,
Deputy Secretary.

[FR Doc. 03-9253 Filed 4-15-03; 8:45 am]

BILLING CODE 6712-01-P